CONSUMER PRODUCT SAFETY COMMISSION

Meeting

AGENCY: Consumer Product Safety Commission, Washington, DC 20207

TIME AND DATE: Friday, September 14, 2001 2 p.m.

LOCATION: Room 420, East West Towers, 4330 East West Highway, Bethesda, Maryland

Status: Open to the public

Matter to be Considered:

Mattresses/Bedding

The staff will brief the Commission on options to address open flame ignition of mattresses/bedding and issues related to Petitions FP 00-1 through FP 00-4, submitted by Whitney A. Davis, Director of Children's Coalition for Fire-Safe Mattresses, requesting various actions concerning mattress flammability.

For a recorded message containing the latest agenda information, call (301) 504-0709.

CONTACT PERSON FOR ADDITIONAL INFORMATION: Todd A. Stevenson, Office of the Secretary, 4330 East West Highway., Bethesda, MD 20207 (301) 504-0800.

Dated: September 5, 2001.
Todd A. Stevenson,
Acting Secretary.

[FR Doc. 01-22662 Filed 9-10-01; 8:45 am]

BILLING CODE 6355-01-M